SMALL BUSINESS ADMINISTRATION

[Declaration of Disaster #3545]

State of North Carolina; Amendment #3

In accordance with a notice received from the Department of Homeland Security—Federal Emergency Management Agency, effective October 8, 2003, the above numbered declaration is hereby amended to include Bladen, Columbus, Cumberland, Davidson, Duplin, Durham, Harnett, Johnston, Robeson, Sampson and Wake Counties as disaster areas due to damages caused by Hurricane Isabel occurring on September 18, 2003 and continuing through September 26, 2003.

In addition, applications for economic injury loans from small businesses located in the contiguous counties of Chatham, Davie, Forsyth, Guilford, Hoke, Lee, Montgomery, Moore, Randolph, Rowan, Scotland and Stanly in the State of North Carolina; and Dillon and Marlboro Counties is the State of South Carolina may be filed until the specified date at the previously designated location. All other counties contiguous to the above named primary counties have been previously declared.

All other information remains the same, i.e., the deadline for filing applications for physical damage is November 17, 2003, and for economic injury the deadline is June 18, 2004.

(Catalog of Federal Domestic Assistance Program Nos. 59002 and 59008).

Dated: October 9, 2003.
S. George Camp,
Acting Associate Administrator for Disaster Assistance.

[FR Doc. 03-26287 Filed 10-16-03; 8:45 am]

BILLING CODE 8025-01-P